DEPARTMENT OF ENERGY

Federal Energy Regulatory Commission

Combined Notice of Filings #1

Take notice that the Commission received the following electric rate filings:

Docket Numbers: ER10-3117-007; ER10-3115-005; ER13-445-008; ER14-2823-006; ER11-4060-008; ER11-4061-008; ER15-1170-004; ER15-1171-004; ER15-1172-004; ER15-1173-004; ER10-3300-012; ER15-1308-002.

Applicants: Badger Creek Limited, Bear Mountain Limited, Chalk Cliff Limited, Double C Generation Limited Partnership, High Sierra Limited, Kern Front Limited, Kingfisher Wind, LLC, La Paloma Generating Company, LLC, Lea Power Partners, LLC, Live Oak Limited, McKittrick Limited, Waterside Power, LLC.

Description: Notice of Change in Status Lea Power Partners, LLC, et. al.

Filed Date: 4/25/16.

Accession Number: 20160425-5357.

Comments Due: 5 p.m. ET 5/16/16.

Docket Numbers: ER12-161-016; ER12-2068-012; ER12-645-018; ER10-2460-012; ER10-2461-012; ER12-2159-008; ER12-682-013; ER10-2463-012; ER11-2201-016; ER10-2464-010; ER10-1821-013; ER13-1139-015; ER13-1585-009; ER12-2205-009; ER10-2465-008; ER11-2657-009; ER13-17-010; ER14-25-013; ER14-2630-008; ER12-919-007; ER12-1311-012; ER10-2466-013; ER11-4029-012.

Applicants: Bishop Hill Energy LLC, Blue Sky East, LLC, California Ridge Wind Energy LLC, Canandaigua Power Partners, LLC, Canandaigua Power Partners II, LLC, Canadian Hills Wind, LLC, Erie Wind, LLC, Evergreen Wind Power, LLC, Evergreen Wind Power III, LLC, First Wind Energy Marketing, LLC, Goshen Phase II LLC, Imperial Valley Solar 1, LLC, Longfellow Wind, LLC, Meadow Creek Project Company LLC, Milford Wind Corridor Phase I, LLC, Milford Wind Corridor Phase II, LLC, Niagara Wind Power, LLC, Prairie Breeze Wind Energy LLC, Rockland Wind Farm LLC, Stetson Holdings, LLC, Stetson Wind II, LLC, Vermont Wind, LLC, Regulus Solar, LLC.

Description: Notice of Change in Status of Bishop Hill Energy LLC, et. al.

Filed Date: 4/25/16.

Accession Number: 20160425-5358.

Comments Due: 5 p.m. ET 5/16/16.

Docket Numbers: ER12-2399-006.

Applicants: FirstEnergy Service Company.

Description: Settlement Agreement and Offer of Settlement [including Pro Forma sheets] of FirstEnergy Service Company on behalf of the Settling Parties.

Filed Date: 4/25/16.

Accession Number: 20160425-5362.

Comments Due: 5 p.m. ET 5/16/16.

Docket Numbers: ER16-767-001.

Applicants: California Independent System Operator Corporation.

Description: Compliance filing: 2016-04-25 Competitive Solicitation Enhancements Compliance to be effective 3/28/2016.

Filed Date: 4/25/16.

Accession Number: 20160425-5293.

Comments Due: 5 p.m. ET 5/16/16.

Docket Numbers: ER16-854-001.

Applicants: Southwest Power Pool, Inc.

Description: Compliance filing: 1628R8 Substitute Western Farmers Electric Cooperative NITSA—Compliance Filing to be effective 1/1/2016.

Filed Date: 4/26/16.

Accession Number: 20160426-5068.

Comments Due: 5 p.m. ET 5/17/16.

Docket Numbers: ER16-1254-001.

Applicants: MMP SCO, LLC.

Description: Tariff Amendment: Amendment to Application for Market-Based Rate Authorization to be effective 4/26/2016.

Filed Date: 4/26/16.

Accession Number: 20160426-5082.

Comments Due: 5 p.m. ET 5/17/16.

Docket Numbers: ER16-1500-000.

Applicants: South Carolina Electric & Gas Company.

Description: Section 205(d) Rate Filing: Attachment H—Depreciation Update to be effective 6/1/2016.

Filed Date: 4/25/16.

Accession Number: 20160425-5294.

Comments Due: 5 p.m. ET 5/5/16.

Docket Numbers: ER16-1501-000.

Applicants: Midcontinent Independent System Operator, Inc.

Description: Section 205(d) Rate Filing: 2016-04-26_SA 2406 NSP-Prairie Rose 2nd Rev. GIA (J183) to be effective 4/27/2016.

Filed Date: 4/26/16.

Accession Number: 20160426-5106.

Comments Due: 5 p.m. ET 5/17/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 26, 2016.
Nathaniel J. Davis, Sr.,
Deputy Secretary.

[FR Doc. 2016-10255 Filed 5-2-16; 8:45 am]

BILLING CODE 6717-01-P